DEPARTMENT OF STATE

[Public Notice 6519]

Notice of Intent To Prepare an Environmental Impact Statement and To Conduct Scoping Meetings and Notice of Floodplain and Wetland Involvement and To Initiate Consultation Under Section 106 of the National Historic Preservation Act for the Proposed Transcanada Keystone XL Pipeline; Correction

AGENCY: Department of State.

ACTION: Notice of intent; correction.

SUMMARY: The United States Department of State published a notice of intent in the Federal Register on January 28, 2009, (74 FR 5019) announcing its intent to prepare an environmental impact statement (EIS) for the proposed Keystone international pipeline project (the Keystone XL Project), which is designed to transport crude oil production from the Western Canadian Sedimentary Basin to existing markets in the Texas Gulf Coast area. The document contained the incorrect time for the public scoping meeting to be held in Faith, South Dakota on February 26, 2009.

Correction: In the Federal Register of January 28, 2009, in FR Doc. E9-1828, on page 5020, the following corrections should be made for the announced time of public meeting to be held in Faith, South Dakota:

Meeting date: Thursday, February 26, 12-2 p.m.

Location: Faith, SD.

Venue: Community Legion Hall, Main Street, Faith, SD 57626.

FOR FURTHER INFORMATION CONTACT: Elizabeth Orlando, OES/ENV Room 2657, U.S. Department of State, Washington, DC 20520, telephone (202) 647-4284 or by fax at (202) 647-5947. A downloadable from a Web site that is being established for this purpose: www.keystonepipeline-XL.state.gov.

Issued in Washington, DC, on February 10, 2009.
Stephen J. Gallogly,
Director, Office of International Energy and Commodities Policy, Department of State.

[FR Doc. E9-2768 Filed 2-9-09; 8:45 am]

BILLING CODE 4710-07-P